DEPARTMENT OF THE INTERIOR

Geological Survey

[GC21NF00GWP2800; OMB Control Number 1028-XXXX]

Agency Information Collection Activities; Michindoh Glacial Aquifer Groundwater Study

AGENCY: U.S. Geological Survey, Interior.

ACTION: Notice of information collection; request for comment.

SUMMARY: In accordance with the Paperwork Reduction Act of 1995, we, the U.S. Geological Survey (USGS) are proposing a new information collection of groundwater level measurements to enhance understanding of the regional groundwater system.

DATES: Interested persons are invited to submit comments on or before July 23, 2021.

ADDRESSES: Send your comments on this information collection request (ICR) by mail to U.S. Geological Survey, Information Collections Officer, 12201 Sunrise Valley Drive, MS 159, Reston, VA 20192; or by email to gs-info_collections@usgs.gov. Please reference OMB Control Number 1028-xxxx in the subject line of your comments.

FOR FURTHER INFORMATION CONTACT: To request additional information about this ICR, contact David Lampe by email at dclampe@usgs.gov or by telephone at 317-416-7448.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment including your personal identifying information—may be made publicly available at any time. While you can ask us in your comment to withhold your personal identifying information from public review, we cannot guarantee that we will be able to do so.

Abstract: Synoptic water level measurements are a type of measurement where data is collected from many wells over a short period of time. As part of the effort to collect synoptic measurements of the Michindoh Aquifer, the USGS is relying on the participation of property owners from across the region. Those identified as having a selected water well located on their property will be contacted via a postcard. They will then be asked to sign a permission form allowing the USGS to complete groundwater level measurement in their well during Fall 2021 and Spring 2022. This will involve USGS scientists accessing the well and lowering a sanitized electric or steel tape into the well to determine the current water depth below land surface. The measurement that is collected will also be provided to the property owner at the time of collection.

The USGS will attempt to measure approximately 150 to 200 wells within eleven counties in the tri-state region. This large number of measurements over a short period of time will provide the USGS with a snapshot-like understanding of regional water levels. This information will be critical for comprehending the behavior of the entire aquifer system and will be used to model regional groundwater depth.

Title of Collection: Michindoh Glacial Aquifer Groundwater Study.

OMB Control Number: 1028-NEW.

Form Number: U.S. Geological Survey Manual 500.11.1.

Type of Review: New.

Respondents/Affected Public: Individuals/households.

Total Estimated Number of Annual Respondents: 400.

Total Estimated Number of Annual Responses: 250.

Estimated Completion Time per Response: 15 minutes.

Total Estimated Number of Annual Burden Hours: 100 hours.

Respondent's Obligation: Voluntary.

Frequency of Collection: Annually (Twice).

Total Estimated Annual Nonhour Burden Cost None: None.

An agency may not conduct or sponsor and a person is not required to respond to a collection of information unless it displays a currently valid OMB control number.

The authority for this action is the Paperwork Reduction Act of 1995 (44 U.S.C. 3501 et seq).

Michael S. Griffin,
Director.

[FR Doc. 2021-10876 Filed 5-21-21; 8:45 am]

BILLING CODE 4338-11-P